DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Murphy Exploration and Production Company-USA, Initial Exploration Plan, SEA N-9060 | De Soto Canyon, Block 838, Lease OCS-G 10475, located 95 miles from the nearest Louisiana shoreline | 11/2/2007
Apache Corporation, Supplemental Exploration Plan, SEA S-7139 | High Island, Block A-376, Lease OCS-G 02754, located 120 miles from the nearest Louisiana shoreline | 1/8/2008
El Paso Production Oil & Gas Company, Structure Removal, SEA ES/SR 05-157A | Vermilion, Block 102, Lease OCS-G 03393, located 29 miles from the nearest Louisiana shoreline | 1/8/2008
El Paso Production Oil & Gas Company, Structure Removal, SEA ES/SR 06-092A | Eugene Island, Block 53, Lease OCS-G 00479, located 15 miles from the nearest Louisiana shoreline | 1/10/2008
W & T Offshore, Inc., Structure Removal, SEA ES/SR 07-160 | Ship Shoal, Block 201, Lease OCS-G 05557, located 42 miles from the nearest Louisiana shoreline | 1/10/2008
Energy Partners, LTD, Structure Removal, SEA ES/SR 07-090B | High Island, Block 72, Lease OCS-G 22231, located 20 miles from the nearest Texas shoreline | 1/12/2008
TGS-NOPEC Geophysical Company, Geological & Geophysical Prospecting for Mineral Resources, SEA T07-23 | Located in the western Gulf of Mexico south of Freeport, Texas | 1/12/2008
ATP Oil & Gas Corporation, Structure Removal, SEA ES/SR 07-154 | Eugene Island (South Addition), Block 281, Lease OCS-G 09591, located 60 miles from the nearest Louisiana shoreline | 1/14/2008
W & T Offshore, Inc., Structure Removal, SEA ES/SR 07-159 | Ship Shoal, Block 202, Lease OCS-G 05558, located 42 miles from the nearest Louisiana shoreline | 1/14/2008
Chevron U.S.A., Inc., Revised Exploration Plan, SEA R-4775 | Atwater Valley, Block 138, Lease OCS-G 23018, located 79 miles south of Venice | 1/16/2008
Maritech Resources, Inc., Structure Removal, SEA ES/SR 07-143 | Eugene Island, Block 116, Lease OCS-G 00478, located 29 miles from the nearest Louisiana shoreline | 1/17/2008
Hydro Gulf of Mexico, LLC, Structure Removal, SEA ES/SR 07-120 | High Island, Block 202, Lease OCS-G 14870, located 33 miles from the nearest Texas shoreline | 1/17/2008
ATP Oil & Gas Corporation, Structure Removal, SEA ES/SR 07-144 | West Cameron, Block 194, Lease OCS-G 09402, located 28 miles from the nearest Louisiana shoreline | 1/17/2008
Energy Resource Technology, Inc., Structure Removal, SEA ES/SR 06-009A | Brazos, Block 452, Lease OCS-G 04713, located 13 miles from the nearest Texas | 1/23/2008
Hydro Gulf of Mexico, LLC, Structure Removal, SEA ES/SR 07-126 | High Island, Block 197, Lease OCS-G 22238, located 27 miles from the nearest Texas shoreline | 1/25/2008
Arena Offshore, LLC, Structure Removal, SEA ES/SR APM HIA346-001 | High Island, Block A346, Lease OCS-G 22272, located 112 miles from the nearest Louisiana shoreline | 1/25/2008
Hunt Oil Company, Structure Removal, SEA ES/SR 08-004 | High Island, Block A530, Lease OCS-G 18956, located 95 miles from the nearest Texas shoreline | 1/25/2008
Hydro Gulf of Mexico, LLC, Structure Removal, SEA ES/SR 07-123 | High Island, Block A7, Lease OCS-G 15781, located 33 miles from the nearest Texas shoreline | 1/25/2008
Apache Corporation, Structure Removal, SEA ES/SR 07-153 | Vermilion, Block 112, OCS-G 10659, located 29 miles from the nearest Louisiana shoreline | 1/25/2008
Forest Oil Corporation, Structure Removal, SEA ES/SR 08-003 | Vermilion, Block 35, Lease OCS-G 00549, located 7 miles from the nearest Louisiana shoreline | 1/25/2008
ATP Oil & Gas Corporation, Structure Removal, SEA ES/SR 07-146 | West Cameron, Block 101, Lease OCS-G 16115, located 13 miles from the nearest Louisiana shoreline | 1/25/2008
EMSG America, Geological & Geophysical Prospecting for Mineral Resources, SEA T07-19 | Located in the western Gulf of Mexico south of Galveston, Texas | 1/31/2008
Apache Corporation, Structure Removal, SEA ES/SR 06-141A | West Cameron, Block 48, Lease OCS-G 00768, located 18 miles from the nearest Louisiana shoreline | 2/6/2008
Energy Resource Technology GOM, Inc., Structure Removal, SEA ES/SR 08-008 | South Timbalier (South Addition), Block 235, Lease OCS-G 14544, located 47 miles from the nearest Louisiana shoreline | 2/9/2008
Energy Resource Technology GOM, Inc., Structure Removal, SEA ES/SR 08-009 | West Cameron, Block 488, Lease OCS-G 23774, located 83 miles from the nearest Louisiana shoreline | 2/9/2008
Energy Resource Technology GOM, Inc., Structure Removal, SEA ES/SR 08-007 | West Cameron (South Addition), Block 472, Lease OCS-G 22557, located 83 miles from the nearest Louisiana shoreline | 2/11/2008
WesternGeco, LLC, Geological & Geophysical Prospecting for Mineral Resources, SEA L08-02 | Located in the central Gulf of Mexico south of Fourchon, Louisiana | 2/15/2008
SPN Resources, Structure Removal, SEA ES/SR 07-161, 07-162 | Mobile, Block 861, Lease OCS-G 05062 & Block 819, Lease OCS-G 10920, located 3 to 7 miles from the nearest Alabama shoreline | 2/15/2008
ATP Oil & Gas Corporation, Structure Removal, SEA ES/SR 07-145 | West Cameron, Block 284, Lease OCS-G 17776, located 20 miles from the nearest Louisiana shoreline | 2/15/2008
Devon Energy Production Company L.P., Structure Removal, SEA ES/SR 08-010 | Eugene Island, Block 120, Lease OCS-G 00050, located 21 miles from the nearest Louisiana shoreline | 2/22/2008
Chevron U.S.A., Inc., Structure Removal, SEA ES/SR 08-015 | South Marsh, Block 8, Lease OCS-G 03401, located 32 miles from the nearest Louisiana shoreline | 2/22/2008
Exxon Mobil Exploration Production Company, Geological & Geophysical Exploration for Mineral Resources, SEA L08-07 | Located in the central Gulf of Mexico 75 miles south of Lafourche Parish, Louisiana | 2/26/2008
Maritech Resources, Inc., Structure Removal, SEA ES/SR 99-121A | West Cameron, Block 352, Lease OCS-G 02839, located 49 miles from the nearest Louisiana shoreline | 2/26/2008
TGS-NOPEC Geophysical Company L.P., Geological & Geophysical Prospecting for Mineral Resources, SEA L08-03 | Located in the central Gulf of Mexico south of Beaumont/Port Arthur, Texas | 2/29/2008
Western GECO, LLC, Geological & Geophysical Prospecting for Mineral Resources, SEA L08-08 | Located in the central Gulf of Mexico south of Venice, Louisiana | 2/29/2008
WesternGeco, LLC, Geological & Geophysical Prospecting for Mineral Resources, SEA T08-01 | Located in the western/central Gulf of Mexico south of Galveston, Texas | 2/29/2008
Hunt Oil Company, Structure Removal, SEA ES/SR 08-019 | Ship Shoal, Block 37, Lease OCS-G 26049, located 8 miles from the nearest Louisiana shoreline | 3/4/2008
ATP Oil & Gas Corporation, Structure Removal, SEA ES/SR 08-001 | Ship Shoal, Block 105, Lease OCS-G 09614, located 33 miles from the nearest Louisiana shoreline | 3/6/2008
Maritech Resources, Inc., Structure Removal, SEA ES/SR 08-006 | Ship Shoal, Block 291, Lease OCS-G 02923, located 58 miles from the nearest Louisiana shoreline | 3/6/2008
Callon Petroleum Operating Company, Structure Removal, SEA ES/SR 08-020, 08-021 | South Marsh Island (North Addition), Block 260, Lease OCS-G 02305, located 27 miles from the nearest Louisiana shoreline | 3/6/2008
Walter Oil & Gas Corporation, Structure Removal, SEA ES/SR 02-098A | Galveston, Block A218, Lease OCS-G 14152, located 74 miles from the nearest Texas shoreline | 3/6/2008
CGG Veritas, Geological & Geophysical Prospecting for Mineral Resources, SEA L07-06 | Located in the central Gulf of Mexico south of Fourchon, Louisiana | 3/8/2008
LLOG Exploration Offshore, Inc., Structure Removal, SEA ES/SR 08-025 | East Cameron, Block 81, Lease OCS-G 01477, located 27 miles from the nearest Louisiana shoreline | 3/11/2008
Chevron U.S.A., Inc., Structure Removal, SEA ES/SR 08-024 | Eugene Island, Block 338, Lease OCS-G 02118, located 76 miles from the nearest Louisiana shoreline | 3/11/2008
Apache Corporation, Structure Removal, SEA ES/SR 07-155 | South Timbalier, Block 161, Lease OCS-G 01248, located 32 miles from the nearest Louisiana shoreline | 3/18/2008
Chevron U.S.A., Inc., Structure Removal, SEA ES/SR 08-023 | Vermilion, Block 245B, Lease OCS-G 01146, located 67 miles from the nearest Louisiana shoreline | 3/18/2008
Maritech Resources, Inc., Structure Removal, SEA ES/SR 06-163 | West Cameron (South Addition), Block 528, Lease OCS-G 16202, located 91 miles from the nearest Louisiana shoreline | 3/18/2008
W & T Offshore, Inc., Structure Removal, SEA ES/SR 08-016 | Main Pass, Block 141, Lease OCS-G 09710, located 17 miles from the nearest Louisiana shoreline | 3/19/2008
Petrobras America, Inc., Initial Development Operations Coordination Document, SEA N-9015 | Walker Ridge, Blocks 206, 249 & 425, Leases OCS-G 16965, 16969 & 16987 respectfully, located 165 miles to the nearest Louisiana shoreline | 3/20/2008
Millenium Offshore Group, Inc., on behalf of ATP Oil & Gas Corporation, Structure Removal, SEA ES/SR 08-041 | Eugene Island, Block 190, Lease OCS-G 08434, located 35 miles from the nearest Louisiana shoreline | 3/21/2008
McMoran Oil & Gas, LLC, Structure Removal, SEA ES/SR 08-029 | Eugene Island, Block 203, Lease OCS-G 22670, located 50 miles from the nearest Louisiana shoreline | 3/21/2008
Energy Resource Technology GOM, Inc., Structure Removal, SEA ES/SR 08-032, 08-033 | South Pelto, Block 20, Lease OCS 00074, located 7 miles from the nearest Louisiana shoreline | 3/24/2008
Apache Corporation, Structure Removal, SEA ES/SR 08-038, 08-039 | High Island, Block 169, Lease OCS-G 14161, located 30 miles from the nearest Texas shoreline | 3/24/2008
BP Exploration & Production, Inc., Revised Exploration Plan, SEA R-4803 AA | Mississippi Canyon, Block 775, Lease OCS-G 19997, located 79 miles south of The Venice, Louisiana shoreline | 3/25/2008
Stone Energy Corporation, Initial Exploration Plan, SEA N-9106 | Main Pass, Block 72, Lease OCS-G 03417, located 6 miles from the nearest Plaquemines Parish, Louisiana shoreline | 3/26/2008
Coastal Technology Corporation, Geological & Geophysical Prospecting for Mineral Resources, SEA E07-02 | Located off the coast of St. Lucie County, Florida on the Federal OCS of the Atlantic Ocean | 3/27/2008
GOM Shelf, LLC, Structure Removal, SEA ES/SR 08-040 | Matagorda Island, Block 633, Lease OCS-G 06042, located 14 miles from the nearest Texas shoreline | 3/27/2008
Energy Resource Technology, Structure Removal, SEA ES/SR 08-030, 08-031 | South Pelto, Block 12, Lease OCS-G 00072, located 9 miles from the nearest Louisiana shoreline | 3/27/2008
Apache Corporation, Structure Removal, SEA ES/SR 07-148, 07-149, 07-150 | West Delta, Blocks 104 & 103, Leases OCS-G 00841 & 00840, located 27 miles from the nearest Louisiana shoreline | 3/21/2008

Persons interested in reviewing environmental documents for the proposals listed above or obtaining information about SEAs and FONSIs prepared for activities on the Gulf of Mexico OCS are encouraged to contact MMS at the address or telephone listed in the FOR FURTHER INFORMATION CONTACT section.

Dated: April 21, 2008.
Lars Herbst,
Regional Director, Gulf of Mexico OCS Region.

[FR Doc. E8-14655 Filed 6-26-08; 8:45 am]

BILLING CODE 4310-MR-P